DEPARTMENT OF LABOR

Employment and Training Administration

[TA-W-61,129]

Romar Textile Co., Inc.; Wampum, PA; Notice of Revised Determination on Reconsideration

On May 25, 2007, the Department issued an Affirmative Determination Regarding Application on Reconsideration applicable to workers and former workers of the subject firm. The notice was published in the Federal Register on June 7, 2007 (72 FR 31613).

The previous investigation initiated on March 16, 2007, resulted in a negative determination issued on March 29, 2007, was based on the finding that workers of the subject firm do not produce an article or support production of an article within the meaning of Section 222 of the Act. The denial notice was published in the Federal Register on April 10, 2007 (72 FR 17938).

In the request for reconsideration, the petitioner provided additional information regarding production at Romar Textile Co., Inc. Upon further contact with the company official, it was revealed that the subject facility supported production of pillow covers and dust ruffles in 2005 and January through May of 2006.

The investigation on reconsideration also revealed that Romar Textile Co., Inc., Wampum, Pennsylvania supplied pillow covers and dust ruffles to one customer. A survey of this declining customer revealed an absolute increase in imports of pillow covers and dust ruffles from 2004 to 2005 and in January through May of 2006 when compared with the same period in 2006. The imports accounted for a meaningful portion of the subject firm's lost sales or production.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Romar Textile, Co., Inc., Wampum, Pennsylvania, contributed importantly to the declines in sales or production and to the total or partial separation of workers at the subject firm. In accordance with the provisions of the Act, I make the following certification:

“All workers of Romar Textile Co., Inc., Wampum, Pennsylvania, who became totally or partially separated from employment on or after March 13, 2006 through two years from the date of this certification, are eligible to apply for adjustment assistance under Section 223 of the Trade Act of 1974, and are eligible to apply for alternative trade adjustment assistance under Section 246 of the Trade Act of 1974.”

Signed in Washington, DC, this 12th day of June 2007.
Linda G. Poole,
Certifying Officer, Division of Trade Adjustment Assistance.

[FR Doc. E7-11837 Filed 6-19-07; 8:45 am]

BILLING CODE 4510-FN-P